DEPARTMENT OF HEALTH AND HUMAN SERVICES

Centers for Disease Control and Prevention

[60 Day-16-0853; Docket No. CDC-2016-0007]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the revision of the “Asthma Information Reporting System (AIRS)” information collection plan. The purpose of AIRS is to collect performance measure and surveillance data spreadsheets designed to increase the efficiency and effectiveness of state asthma programs and to monitor the impact of the state and national programs.

DATES: Written comments must be received on or before March 21, 2016.

ADDRESSES: You may submit comments, identified by Docket No. CDC-2016-0007 by any of the following methods:

• Federal eRulemaking Portal: Regulation.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Asthma Information and Reporting System (AIRS)—(OMB Control No. 0920-0853; exp. 05/31/2016)—Revision—National Center for Environmental Health (NCEH), Centers for Disease Control and Prevention (CDC).

Background and Brief Description

In 1999, the CDC began its National Asthma Control Program (NACP), a population-based public health approach to address the burden of asthma. The program supports the goals and objectives of “Healthy People 2010” for asthma and is based on the public health principles of surveillance, partnerships, interventions, and evaluation. The CDC requests to revise the “Asthma Information and Reporting System (AIRS)” (OMB Control No. 0920-0853; expiration date 5/31/2016). The goal of this data collection is to provide NCEH with routine information about the activities and performance of the state and territorial awardees funded under the NACP through an annual reporting system. As regular reporting of this information is a requirement of the cooperative agreement mechanism utilized to fund state asthma control programs, a three-year extension for PRA clearance is requested.

This data collection was first approved by OMB in 2010 to collect data in a Web-based system to monitor and guide participating state health departments. Since implementation in 2010, AIRS and the technical assistance provided by CDC staff have provided states with uniform data reporting methods and linkages to other states' asthma programs and data. Thus, AIRS has saved state resources and staff time when asthma programs embark on asthma activities similar to those done elsewhere. Furthermore, access to standardized surveillance and programmatic data allows CDC to provide timely and accurate responses to the public and Congress regarding the NACP (e.g., trends in rates of hospital discharges and emergency department visits, how many states have asthma interventions targeting schools or day care facilities, etc.). In the past three-years, AIRS data were used to:

Serve as a resource to the branch, division, and center when addressing congressional, departmental and institutional inquiries;

Help the branch align its current interventions with CDC goals and allowed the monitoring of progress toward these goals;

Allow the NACP and the state asthma programs to make more informed decisions about activities to achieve objectives;

Facilitate communication about interventions across states, and enable inquiries regarding interventions by populations with a disproportionate burden, age groups, geographic areas and other variables of interest.

Aggregated data from AIRS was presented at the 2015 State Asthma Grantee in Atlanta for the purposes of providing feedback to the state programs, clarifying CDC's expectations of the awardees and obtaining feedback from the awardees to CDC on the measures and the process of submitting information. Also, a presentation about the performance measurement development and implementation process was given in Chicago at the 2015 American Evaluation Association (AEA) annual meeting.

A revision is necessary because: (1) The Web-based reporting platform is no longer supported by CDC; (2) in collaboration with state asthma programs, reporting requirements have been prioritized to provide specific information on the two main strategies in the FOA: Services (home visits and school-based self-management education) and services strategies (improving quality of medical management, improving referrals to and communication with school and home-based providers and increasing provision or reimbursement for non-clinical asthma services by health plans); and (3) CDC now endorses limiting state program reporting to once a year. AIRS also includes forms to collect aggregate emergency department (ED) visit and hospital discharge (HD) data from awardees. As in the previous version of AIRS, NACP requires awardees to report hospital discharge and emergency department visit counts by 19 age groups to permit age adjusted rates and thus monitor the state programs' performance in reducing the burden of asthma. Specifically, CDC seeks to make the following changes:

• Rather than using the web-based system, state awardees will use AIRS Excel spreadsheets to report CDC-developed outcome performance measures.

• The performance measures will be collected annually, rather than biannually as previously approved.

There will be no cost for respondents other than the time taken to complete the 3 three AIRS spreadsheets. With this revision, the number of awardees has been reduced from 34 to 23 states, and the total estimated annual burden hours are reduced from 288 to 82 hours.

Estimated Annualized Burden Hours
Type of respondents | Form name | Number of respondents | Number of responses per respondent | Average burden per response (in hrs.) | Total burden (in hrs.)
State Asthma Program Awardees | AIRS Reporting Spreadsheets | 23 | 1 | 2.5 | 58
| Emergency Department Visits Reporting Forms | 23 | 1 | 30/60 | 12
| Hospital Discharge Reporting Forms | 23 | 1 | 30/60 | 12
Total |  |  |  |  | 82

Leroy A. Richardson,
Chief, Information Collection Review Office, Office of Scientific Integrity, Office of the Associate Director for Science, Office of the Director, Centers for Disease Control and Prevention.

[FR Doc. 2016-00937 Filed 1-19-16; 8:45 am]

BILLING CODE 4163-18-P